DEPARTMENT OF DEFENSE

Office of the Secretary

Reserve Forces Policy Board (RFPB); Notice of Federal Advisory Committee Meeting

AGENCY: Office of the Secretary of Defense, DoD.

ACTION: Notice of Federal Advisory Committee meeting.

SUMMARY: Under the provisions of the Federal Advisory Committee Act of 1972 (FACA) (5 U.S.C. Appendix, as amended), the Government in the Sunshine Act of 1976 (5 U.S.C. 552b, as amended), and 41 CFR 102-3.150, the Department of Defense announces the following Federal advisory committee meeting of the Reserve Forces Policy Board will take place.

DATES: Wednesday, June 5, 2013, from 8:25 a.m. to 3:50 p.m.

ADDRESSES: The address is the Pentagon, Room 3E863, Arlington, VA (escort required; see guidance in Meeting Accessibility.

FOR FURTHER INFORMATION CONTACT: CAPT Steven Knight, Designated Federal Officer, (703) 681-0608 (Voice), (703) 681-0002 (Facsimile), RFPB@osd.mil. Mailing address is Reserve Forces Policy Board, 5113 Leesburg Pike, Suite 601, Falls Church, VA 22041. Web site: http://ra.defense.gov/rfpb/.

SUPPLEMENTARY INFORMATION: Purpose of the Meeting: The purpose of the meeting is to obtain, review and evaluate information related to strategies, policies, and practices designed to improve and enhance the capabilities, efficiency, and effectiveness of the Reserve Components.

Agenda: The Reserve Forces Policy Board will hold a meeting from 8:25 a.m. until 3:50 p.m. The portion of the meeting from 8:25 a.m. until 2:10 p.m. will be closed and is not open to the public. The closed session of the meeting will consist of remarks from the Deputy Secretary of Defense; the Acting Under Secretary of Defense (Personnel & Readiness); the Commander, U.S. Southern Command; the Director, Cost Assessment and Program Evaluation; the Deputy Commander, U.S. Cyber Command; Dr. Paul Stockton, former Assistant Secretary of Defense for Homeland Defense and Americas' Security Affairs: and a representative from the Council of Governors. All of the closed session speakers will discuss the best ways to use the Reserves to support the Department's new strategy; the right balance of Active and Reserve Component Forces; and the cost to maintain a strong Reserve Component. Additionally, the Deputy Commander, U.S. Cyber Command, will discuss his views on the increased emphasis placed on cyber security and the logical mission fit for Reserve Component members. The Director, Cost Assessment and Program Evaluation, will provide her thoughts as the Department completes studies and implements decisions that will have a profound impact on the Reserve Components. The representative from the Council of Governors and Dr. Stockton will discuss the vulnerabilities or capabilities of systems, installation infrastructures, projects, plans, or protection services relating to national security. The Council of Governors representative may also address the following topics: Defense Support of Civilian Authorities, employment of the Reserve Components for related missions and the lessons learned from Hurricane Sandy. The open portion of the meeting, from 2:10 p.m. until 3:50 p.m., will consist of briefs from the RFPB subcommittees on the status of the recommendations previously made to the Secretary of Defense, “off-ramping” of Reserve units, Reserve Component Medical Readiness, and an update on the progress of the OASD Reserve Affairs Certificate of Release or Discharge from Active Duty (DD Form 214) working group. The Secretary of Defense Strategic Question Task Group will discuss its findings, present relevant facts, provide for the Board's consideration a report or reports of advice and recommendations for the Secretary of Defense, and discuss the cost of a strong Reserve Component. The Cyber Task Group presentation will announce its formation and discuss the administrative matters associated with this group.

Meeting Accessibility: Pursuant to 5 U.S.C. 552b, as amended, and 41 CFR 102-3.140 through 102-3.165, and the availability of space, the open portion of the meeting is open to the public. Seating is limited and is on a first-come basis. All members of the public who wish to attend the public meeting must contact Captain Steven Knight at the number listed in FOR FURTHER INFORMATION CONTACT no later than noon on Wednesday, May 29 to register and make arrangements for a Pentagon escort, if necessary. Public attendees requiring escort should arrive at the Pentagon Metro Entrance with sufficient time to complete security screening no later than 1:40 p.m. on June 5. To complete security screening, please come prepared to present two forms of identification and one must be a picture identification card. In accordance with section 10(d) of the FACA, 5 U.S.C. 552b, and 41 CFR 102-3.155, the Department of Defense has determined that the portion of this meeting from 8:25 a.m. until 2:10 p.m. will be closed to the public. Specifically, the Acting Under Secretary of Defense (Personnel and Readiness), with the coordination of the DoD FACA Attorney, has determined in writing that this portion of the meeting will be closed to the public because it will discuss matters covered by 5 U.S.C. 552b(c)(1).

Written Statements: Pursuant to 41 CFR 102-3.105(j) and 102-3.140 and section 10(a)(3) of the FACA, interested persons may submit written statements to the Reserve Forces Policy Board at any time. Written statements should be submitted to the Reserve Forces Policy Board's Designated Federal Officer at the address or facsimile number listed in FOR FURTHER INFORMATION CONTACT. If statements pertain to a specific topic being discussed at a planned meeting, then these statements must be submitted no later than five (5) business days prior to the meeting in question. Written statements received after this date may not be provided to or considered by the Reserve Forces Policy Board until its next meeting. The Designated Federal Officer will review all timely submitted written statements and provide copies to all the committee members before the meeting that is the subject of this notice. Please note that since the Board operates under the provisions of the FACA, all submitted comments and public presentations will be treated as public documents and will be made available for public inspection, including, but not limited to, being posted on the Board's Web site.

Dated: May 13, 2013.
Aaron Siegel,
Alternate OSD Federal Register Liaison Officer, Department of Defense.

[FR Doc. 2013-11671 Filed 5-15-13; 8:45 am]

BILLING CODE 5001-06-P